DEPARTMENT OF EDUCATION

Local Flexibility Demonstration Program

AGENCY: Office of Elementary and Secondary Education, Department of Education.

ACTION: Notice extending application deadline.

SUMMARY: Under the Local Flexibility Demonstration Program (“Local-Flex” program), the Secretary will competitively select up to 80 local educational agencies (LEAs) with which to enter into Local-Flex agreements. The agreements will provide participating LEAs the flexibility to consolidate certain Federal formula grant funds in order to assist them in meeting the State's definition of adequate yearly progress and the LEA's specific measurable goals for improving student achievement and narrowing achievement gaps. In this notice, we are extending the deadline for eligible LEAs to apply to participate in the Local-Flex program.

Application Deadline: December 6, 2002.

Eligible Applicants

LEAs in the following States are eligible to apply for Local-Flex: Alaska, Arkansas, California, Connecticut, Georgia, Idaho, Indiana, Iowa, Kansas, Kentucky, Louisiana, Maine, Maryland, Michigan, Minnesota, Mississippi, Missouri, Montana, Nevada, New Hampshire, New Jersey, New Mexico, New York, North Carolina, North Dakota, Ohio, Oklahoma, Oregon, Rhode Island, South Carolina, South Dakota, Utah, Vermont, Virginia, Washington, West Virginia, Wisconsin, and Wyoming.

By statute, the Secretary may enter into Local-Flex agreements with no more than three LEAs in a State. Therefore, any consortium that seeks a Local-Flex agreement may include no more than three LEAs. Furthermore, only LEAs that receive formula grant funds from their State educational agency (SEA) under the Federal programs subject to consolidation may seek Local-Flex authority.

LEAs in the following States may not apply at this time because their SEA indicated, by May 8, 2002, an intent to apply for State-Flex authority: Alabama, Arizona, Colorado, Delaware, Florida, Illinois, Massachusetts, Nebraska, Pennsylvania, Tennessee, and Texas. In addition, the District of Columbia, Hawaii, Puerto Rico, and the outlying areas are not eligible to apply for Local-Flex because, for purposes of this program, the legislation considers a state-wide LEA to be an SEA.

Under the legislation, a State generally cannot receive State-Flex authority if one of its LEAs has entered into a Local-Flex agreement with the Secretary. If an LEA enters into a Local-Flex agreement with the Secretary, its SEA may subsequently seek State-Flex authority only if that LEA agrees to be part of the SEA's State-Flex proposal.

SUPPLEMENTARY INFORMATION: On July 19, 2002, we published in the Federal Register (67 FR 47528-47529) a notice establishing a September 17, 2002 deadline for the initial Local-Flex competition. In that notice, the Secretary indicated that he would select up to forty LEAs for participation in Local-Flex in the initial competition, and that he would select the remaining LEAs in a subsequent competition.

The Department now believes that many LEAs need additional time to prepare a Local-Flex application, especially given that new requirements in the programs affected by Local-Flex just recently became effective. With additional time, many more interested LEAs should be able to prepare a Local-Flex proposal that fully addresses the statutory requirements and that will assist them in meeting their State definition of adequate yearly progress and in attaining specific, measurable goals for improving student achievement and narrowing achievement gaps.

An LEA that submitted an application by the previously established deadline does not have to re-apply for Local-Flex, but may submit a revised application by the deadline established in this notice if it wishes to do so. The Department intends to hold one or more subsequent Local-Flex competitions until the statutory maximum of 80 LEAs are participating in the program.

Notification of Intent To Apply for Local-Flex

We will be able to develop a more efficient process for reviewing Local-Flex applications if we have a better understanding of the number of LEAs that intend to seek participation in the program. Therefore, we strongly encourage each potential applicant to send, by November 8, 2002, a notification of its intent to apply for participation in the Local-Flex program to the following address: LocalFlex@ed.gov.

The notification of intent to apply for participation in Local-Flex is optional and should not include information regarding the potential applicant's Local-Flex proposal. LEAs that fail to provide the notification may still submit an application by the application deadline.

FOR FURTHER INFORMATION CONTACT: Ms. Milagros Lanauze. Telephone: (202) 401-0039 or via Internet: LocalFlex@ed.gov.

If you use a telecommunications device for the deaf (TDD), you may call the Federal Information Relay Service (FIRS) at 1-800-877-8339. Individuals with disabilities may obtain this notice in an alternative format (e.g., Braille, large print, audiotape, or computer diskette) on request to the contact person listed above.

APPLICATIONS: You may obtain a copy of the application on the Department's web site at: http://www.ed.gov/flexibility/prog.

You may also obtain a copy of the application from the contact person identified under FOR FURTHER INFORMATION CONTACT.

Electronic Access to This Document

You may view this document, as well as other Department of Education documents published in the Federal Register in text or Adobe Portable Document Format (PDF) on the Internet at the following site: www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: www.access.gpo.gov/nara/index.html.

Program Authority: Sections 6151 through 6156 of the ESEA, as amended by the No Child Left Behind Act of 2001 (Pub.L. 107-110).
Dated: September 13, 2002.
Susan B. Neuman,
Assistant Secretary for Elementary and Secondary Education.

[FR Doc. 02-23737 Filed 9-15-02; 2:56 pm]

BILLING CODE 4000-01-P